DEPARTMENT OF THE INTERIOR

Bureau of Land Management

[NM-080-1430-EU; Serial No. NMNM-108401]

Noncompetitive Sale of Public Lands in Eddy County

AGENCY: Bureau of Land Management, Interior.

ACTION: Notice of realty action.

SUMMARY: The following land has been found suitable for direct sale under section 203 of the Federal Land Policy and Management Act of 1976 (90 Stat. 2750, 43 U.S.C. 1713) and the regulations at 43 CFR 2710.0-3(a)(3).

T. 21 S., R. 23 E., NMPM

Sec. 7: E½SE¼NE¼SW¼.

Containing approximately 5 acres.

FOR FURTHER INFORMATION CONTACT: Mary Jo Rugwell at (505) 234-5907.

SUPPLEMENTARY INFORMATION: The land is hereby segregated from appropriation under the public land laws, including the mining laws. This segregative effect shall terminate upon issuance of patent or other document of conveyance for these lands, upon publication in the Federal Register of a termination of the segregation, or 270 days from date of publication, whichever occurs first.

In accordance with section 7 of the Taylor Grazing Act, 43 U.S.C. 315f, and Executive Order No. 6910, the described land is hereby classified for disposal by sale.

The disposal of this land is in conformance with the Carlsbad Resource Management Plan and meets the criteria contained in 43 CFR 2711.3-3(a)(5) because it is unmanageable as a part of the other BLM lands in that area. The subject land is not required for any other Federal purpose.

The land is to be offered for direct sale to Joe and Janet Cox to resolve the inadvertent unauthorized use of public land for their residence. This unauthorized use occurred many years ago prior to their ownership of the adjacent private property. The land will be offered at $2000, the appraised fair market value determined by an approved BLM appraisal.

The appraisal report for this disposal action can be reviewed at the address provided below. The patent, when issued, will reserve all minerals to the United States and will be subject to valid existing rights. Detailed information concerning the mineral reservation, as well as specific conditions of the sale, are available for review at the Carlsbad Field Office, Bureau of Land Management, 620 East Greene Street, Carlsbad, New Mexico 88220. For a period of 45 days from January 13, 2004, interested parties may submit comments to Russell Sorensen, Lead Realty Specialist, 620 East Greene Street, Carlsbad, NM 88220. Any adverse comments will be evaluated by the Field Manager, who may vacate or modify this realty action and issue a final determination. In the absence of objections, this realty action will become the final determination of the Department of the Interior.

Mary Jo Rugwell,
Assistant Field Manager for Lands and Minerals.

[FR Doc. 04-693 Filed 1-12-04; 8:45 am]

BILLING CODE 4310-FB-P